OFFICE OF THE UNITED STATES TRADE REPRESENTATIVE

Generalized System of Preferences (GSP); Intellectual Property Rights; Deadline for Submitting Public Comments on the Suspension of Ukraine, in Whole or in Part, From Eligibility as a GSP Beneficiary Country

AGENCY: Office of the United States Trade Representative (USTR).

ACTION: Request for public comment.

DATES: Final date for comments is April 25, 2001.

SUMMARY: This notice informs the public that the U.S. Government is considering whether to suspend, in whole or in part, duty-free treatment accorded to imports from Ukraine under the U.S. GSP program on the ground that Ukraine has not taken sufficient steps to protect intellectual property rights and sets forth the deadline for submitting comments on products that could be affected.

FOR FURTHER INFORMATION CONTACT: GSP Subcommittee, Office of the United States Trade Representative, USTR Annex, 1724 “F” Street, NW., Room F220, Washington, DC 20508 (Tel. 202/395-6971). Public versions of all documents relating to this review are available for public inspection by appointment in the USTR public reading room (Tel. 202/395-6186).

SUPPLEMENTARY INFORMATION: The GSP program is authorized pursuant to Title V of the Trade Act of 1974, as amended (“the Trade Act”) (19 U.S.C. 2461 et seq.). The GSP program grants duty-free treatment to designated eligible articles that are imported from designated beneficiary developing countries. Once granted, GSP benefits may be withdrawn, suspended or limited by the President with respect to any article or with respect to any country. In making this determination, the President must consider several factors, one of which is the extent to which a beneficiary country is providing adequate and effective protection of intellectual property rights (IPR) (19 U.S.C. 2462(c)(5)). Ukraine is a beneficiary of the GSP. In 2000, over $40 million of Ukraine's exports to the United States benefited from GSP. The Annex to this Notice lists products currently being imported under GSP from Ukraine.

I. Suspension of GSP Benefits for Ukraine

In June 1999, the International Intellectual Property Alliance filed a petition for remedial action under the GSP program alleging that Ukraine had failed to provide adequate and effective copyright protection and enforcement to U.S. copyright owners. The petition dealt primarily with the massive production and export of unauthorized compact discs (CDs) in Ukraine, which began after similar operations in Bulgaria were closed in 1999. For over two years the U.S. Government has been urging the Ukrainian Government to close down unauthorized CD production facilities and enact legislation to adequately protect copyrights. The Ukraine Government to date has been unwilling to curtail the activities of these unauthorized facilities. Ukraine has now been designated a “Priority Country” under the “special 301” provision of the Trade Act. The separate GSP review of Ukraine has been ongoing since 1999. In light of the “Priority Country” designation, the U.S. Government is now considering the suspension of Ukraine's GSP benefits.

A. Opportunity for Public Comment

This notice solicits public comments on whether it is appropriate to suspend GSP benefits for Ukraine as well as the effect such suspension would have on Ukraine's exports to the United States. All written comments should be addressed to: GSP Subcommittee, Office of the U.S. Trade Representative, Annex, 1724 F Street, NW., Room 217, Washington, DC 20508. All submissions must be in English and should conform to the information requirements of 15 CFR 2007. A party must provide fourteen copies of its comments which must be received by the Chairman of the GSP Subcommittee no later than 5 p.m., Wednesday, April 25, 2001. Comments received after the deadline will not be accepted.

Information submitted will be subject to public inspection by appointment with the staff of the USTR public reading room, except for information submitted in confidence pursuant to 15 CFR 2007.7. If the document contains business confidential information, an original and fourteen (14) copies of a public version of the submission along with an original and fourteen (14) copies of the confidential version must be submitted. In addition, any document containing confidential information should be clearly marked “confidential” at the top and bottom of each page of the document. The version that does not contain confidential information (the public version) should also be clearly marked at the top and bottom of every page (either “public version” or “nonconfidential”).

Jon Rosenbaum,
Assistant USTR for Trade and Development.

BILLING CODE 3190-01-M

[FR Doc. 01-7521 Filed 3-23-01; 8:45 am]

BILLING CODE 3190-01-C